DEPARTMENT OF DEFENSE

Department of the Army, Corps of Engineers

Ending of the National Environmental Policy Act Emergency Alternative Arrangements for New Orleans Hurricane and Storm Damage Risk Reduction System (HSDRRS)

AGENCY: Department of the Army, U.S. Army Corps of Engineers, DoD.

ACTION: Public notice.

SUMMARY: The U.S. Army Corps of Engineers (USACE), Mississippi Valley Division, New Orleans District (CEMVN) announces the formal termination of the Emergency Alternative Arrangements implemented by agreement with the Council on Environmental Quality (CEQ) pursuant to CEQ's National Environmental Policy Act (NEPA) regulations (40 CFR 1506.11).

FOR FURTHER INFORMATION CONTACT: Questions concerning ending NEPA Emergency Alternative Arrangements should be addressed to Sandra Stiles at U.S. Army Corps of Engineers, PDN-CEP, P.O. Box 60267, New Orleans, LA 70160-0267, (504) 862-1583, fax (504) 862-2088 or by email at Sandra.E.Stiles@usace.army.mil.

SUPPLEMENTARY INFORMATION: The NEPA Emergency Alternative Arrangements (Alternative Arrangements) were announced and published in the Federal Register on March 13, 2007 (72 FR 11337). The purpose of the Alternative Arrangements was to expedite the environmental analyses necessary to design and to construct the levees, floodwalls and other risk reduction structures comprising the HSDRRS in light of the threat posed by hurricanes and storm surge to the post-Hurricane Katrina New Orleans Metropolitan Area. The Alternative Arrangements were limited to those actions necessary to control the immediate impacts of the emergency (40 CFR 1506.11) and were to remain in effect during the completion of the Individual Environmental Reports (IERs) and the Comprehensive Environmental Document (CED) as identified in the Alternative Arrangements.

The remaining documents to be completed under Alternative Arrangements include the Westbank & Vicinity Supplemental Programmatic IER for compensatory mitigation (SPIER 37a) and the CED, Phase II. While construction of the HSDRRS is very near complete, implementation of compensatory mitigation for the impacts caused by that construction is ongoing. CEMVN has released multiple IERs evaluating potential mitigation projects. SPIER 37a will be released for public review not later than September 2015.

As set forth in the Alternative Arrangements, the CED addresses the HSDRRS on a system-wide scale. A Phase I CED was finalized on May 22, 2013. A Phase II CED will be released for public review in December 2016. A Decision Record on the CED is anticipated in May of 2017.

SPIER 37a and the CED, Phase II will be the final documents prepared under the Alternative Arrangements. In all other cases, CEMVN no longer utilizes the procedures of the Alternative Arrangements.

Dated: June 19, 2015.
Richard L. Hansen,
Colonel, U.S. Army, District Commander.

[FR Doc. 2015-15661 Filed 6-25-15; 8:45 am]

BILLING CODE 3720-58-P